ENVIRONMENTAL PROTECTION AGENCY

40 CFR Part 52

[EPA-R08-OAR-2010-0406; FRL-9473-8]

Approval and Promulgation of Implementation Plans; North Dakota; Regional Haze State Implementation Plan; Federal Implementation Plan for Interstate Transport of Pollution Affecting Visibility and Regional Haze; Correction of Public Hearing

AGENCY: Environmental Protection Agency (EPA).

ACTION: Proposed rule; Correction of Public Hearing.

SUMMARY: EPA is changing the public hearing arrangements for our proposed action on North Dakota's State Implementation Plans (SIPs) addressing regional haze and the interstate transport of pollutants that interfere with programs to protect visibility in other states. We are making this change in response to a letter that the Governor of North Dakota submitted on September 9, 2011.

DATES: Public hearings will be held October 13-14, 2011.

ADDRESSES: The public hearings will be held at the North Dakota Department of Health, Environmental Training Center, 2639 East Main Avenue, Bismarck, ND 58506.

FOR FURTHER INFORMATION CONTACT: Gail Fallon, EPA Region 8, Mailcode 8P-AR, 1595 Wynkoop Street, Denver, CO, 80202-1129, (303) 312-6281, Fallon.Gail@epa.gov.

SUPPLEMENTARY INFORMATION: On September 21, 2011 we published a proposed rule partially approving and partially disapproving a revision to the North Dakota SIP addressing regional haze and disapproving a revision to the North Dakota SIP for interstate transport of pollutants that interfere with programs to protect visibility in other states. See 76 FR 58570. To accommodate the Governor of North Dakota's request submitted in a letter dated September 9, 2011 for additional hearing time, we have changed the location to the North Dakota Department of Health's Environmental Training Center, 2639 East Main Avenue, Bismarck, ND 58506. We have changed the schedule to provide four different hearing sessions. Public hearings will now be held on Thursday, October 13, 2011 from 1 p.m. until 5 p.m., and again from 7 p.m. until 9 p.m. A second day of public hearings will be held on Friday, October 14, 2011 from 8 a.m. until 12 p.m., and again from 1 p.m. until 5 p.m.

The public hearings will provide interested parties the opportunity to present information and opinions to EPA concerning our proposal. Interested parties may also submit written comments, as discussed in the proposal. Written statements and supporting information submitted during the comment period will be considered with the same weight as any oral comments and supporting information presented at the public hearings. We will not respond to comments during the public hearings. When we publish our final action, we will provide written responses to all oral and written comments received on our proposal.

At the public hearings, the hearing officer may limit the time available for each commenter to address the proposal to 5 minutes or less if the hearing officer determines it to be appropriate. The limitation is to ensure that everyone who wants to make a comment has the opportunity to do so. We will not be providing equipment for commenters to show overhead slides or make computerized slide presentations. Any person may provide written or oral comments and data pertaining to our proposal at the public hearings. Verbatim transcripts, in English, of the hearings and written statements will be included in the rulemaking docket.

List of Subjects in 40 CFR Part 52

Environmental protection, Air pollution control, Intergovernmental relations, Ozone, Particulate matter, Reporting and recordkeeping requirements, Volatile organic compounds.

Dated: September 23, 2011.
James B. Martin,
Regional Administrator, Region 8.

[FR Doc. 2011-25293 Filed 9-29-11; 8:45 am]

BILLING CODE 6560-50-P